DEPARTMENT OF COMMERCE

International Trade Administration

[C-475-830]

Stainless Steel Bar From Italy: Final Results of Expedited Five-Year (“Sunset”) Review of the Countervailing Duty Order

AGENCY: Import Administration, International Trade Administration, Department of Commerce.

SUMMARY: On February 1, 2007, the Department of Commerce (“the Department”) published in the Federal Register the notice of initiation of the five-year sunset review of the countervailing duty order on stainless steel bar (“SSB”) from Italy, pursuant to section 751(c) of the Tariff Act of 1930, as amended (“the Act”). See Initiation of Five-Year (“Sunset”) Reviews, 72 FR 4689 (February 1, 2007) (“Sunset Review”). The Department has conducted an expedited sunset review of this order pursuant to section 751(c)(3)(B) of the Act and 19 CFR 351.218(e)(1)(ii)(C)(2). As a result of this sunset review, the Department finds that revocation of the countervailing duty order is likely to lead to continuation or recurrence of a countervailable subsidy at the levels indicated in the “Final Results of Review” section of this notice.

DATES: Effective Date: June 6, 2007.

FOR FURTHER INFORMATION CONTACT: Audrey R. Twyman or Brandon Farlander, AD/CVD Operations, Office 1, Import Administration, International Trade Administration, U.S. Department of Commerce, 14th Street and Constitution Ave., NW., Washington, DC 20230; telephone: (202) 482-3534 or (202) 482-0182, respectively.

SUPPLEMENTARY INFORMATION:

Background

On February 1, 2007, the Department initiated this sunset review of the countervailing duty order on SSB from Italy, pursuant to section 751(c) of the Act. See Initiation of Five-year (“Sunset”) Reviews, 72 FR 4689 (February 1, 2007). The Department received the Notice of Intent to Participate from Carpenter Technology Corp.; Crucible Specialty Metals Division of Crucible Materials Corp.; Electralloy; Outokumpu Stainless Bar, Inc.; Universal Stainless & Alloy Products, Inc.; and Valbruna Slater Stainless, Inc. (collectively “the domestic interested parties”), within the deadline specified in section 351.218(d)(1)(i) of the Department's Regulations (“Sunset Regulations”). The domestic interested parties claimed interested party status under section 771(9)(C) of the Act, as manufacturers of a domestic-like product in the United States.

On February 28, 2007, the Department received a complete substantive response to the notice of initiation from the Delegation of the European Commission (“EC”). On March 1, 2007, the Department received a complete substantive response from Cogne Acciai Speciali S.r.l. (“CAS”), a foreign producer and exporter of subject merchandise during this review. On March 5, 2007, the Department received complete substantive responses from the domestic interested parties and from the Government of Italy (“GOI”). CAS claimed interested party status under section 771(9)(A) as a foreign producer and exporter of the subject merchandise. The GOI and EC expressed their intent to participate in this review as the authorities responsible for defending the interests of the Italian industry.

We find that CAS accounted for less than 50 percent of the exports to the United States by companies subject to this order, the level that the Department normally considers to be an adequate response to the notice of initiation by respondent interested parties under 19 CFR 351.218(e)(1)(ii)(A). In addition, a government response alone, normally, is not sufficient for full sunset reviews in which the orders are not done on an aggregate basis. See, e.g., Final Results of Expedited Sunset Reviews of Countervailing Duty Orders: Pure Magnesium and Alloy Magnesium from Canada, 70 FR 67140 (November 4, 2005). Therefore, we conducted an expedited (120-day) sunset review of the CVD order on stainless steel bar from Italy as provided for at section 751(c)(3)(B) of the Act and at section 351.218(e)(1)(ii)(C)(2) of the Department's regulations. See Memorandum from Damian Felton to Susan Kuhbach entitled, “Adequacy Determination: Sunset Review of the Countervailing Duty Order on Stainless Steel Bar from Italy” (March 23, 2007). On April 12, 2007, we received a letter from domestic interested parties stating that they agree with the Department's decision to conduct an expedited review of this order.

On March 12, 2007, the domestic interested parties filed a rebuttal to the substantive responses of CAS, the GOI, and the EC. CAS, the GOI, and the EC did not file rebuttals. The Department did not conduct a hearing because a hearing was not requested.

Scope of the Order

For the purposes of this order, the term “stainless steel bar” includes articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. Stainless steel bar includes cold-finished stainless steel bars that are turned or ground in straight lengths, whether produced from hot-rolled bar or from straightened and cut rod or wire, and reinforcing bars that have indentations, ribs, grooves, or other deformations produced during the rolling process.

Except as specified above, the term does not include stainless steel semi-finished products, cut length flat-rolled products (i.e., cut length rolled products which if less than 4.75 mm in thickness have a width measuring at least 10 times the thickness, or if 4.75 mm or more in thickness having a width which exceeds 150 mm and measures at least twice the thickness), products that have been cut from stainless steel sheet, strip or plate, wire (i.e., cold-formed products in coils, of any uniform solid cross section along their whole length, which do not conform to the definition of flat-rolled products), and angles, shapes and sections.

The stainless steel bar subject to this review is currently classifiable under subheadings 7222.11.00.05, 7222.11.00.50, 7222.19.00.05, 7222.19.00.50, 7222.20.00.05, 7222.20.00.45, 7222.20.00.75, and 7222.30.00.00 of the Harmonized Tariff Schedule of the United States (“HTSUS”). Although the HTSUS subheadings are provided for convenience and customs purposes, the written description of the scope of the order is dispositive.

Analysis of Comments Received

All issues raised in substantive responses by parties in this sunset review are addressed in the “Issues and Decision Memo for the Expedited Sunset Review of the Countervailing Duty Order on Stainless Steel Bar from Italy; Final Results,” (“Decision Memo”), from Stephen J. Claeys, Deputy Assistant Secretary for Import Administration, to David M. Spooner, Assistant Secretary for Import Administration, dated June 1, 2007, which is hereby adopted by this notice. The issues discussed in the Decision Memo include the likelihood of continuation or recurrence of a countervailable subsidy, the net countervailable subsidy rate likely to prevail if the order were revoked, and the nature of the subsidies.

Parties can find a complete discussion of all issues raised in this sunset review and the corresponding recommendation in this public memorandum which is on file in B-099, the Central Records Unit, of the main Commerce building. In addition, a complete version of the Decision Memo can be accessed directly on the Department's Web page at http://ia.ita.doc.gov/frn/index.html. The paper copy and electronic version of the Decision Memo are identical in content.

Final Results of Review

The Department determines that revocation of the countervailing duty order on SSB from Italy is likely to lead to continuation or recurrence of countervailable subsidies at the following countervailing duty rates:

Manufacturer/exporter | Net subsidy rate (percent)
Cogne Acciai Speciali S.r.l | 1.57
All Others | 12.93

Notification Regarding Administrative Protective Orders

This notice also serves as the only reminder to parties subject to administrative protective orders (“APO”) of their responsibility concerning the return or destruction of proprietary information disclosed under APO in accordance with 19 CFR 351.305(a)(3). Timely notification of the return or destruction of APO materials or conversion to judicial protective order is hereby requested. Failure to comply with the regulations and terms of an APO is a violation which is subject to sanction.

We are issuing and publishing this determination and notice in accordance with sections 751(c), 752, and 777(i) of the Act.

Dated: May 31, 2007.
David M. Spooner,
Assistant Secretary for Import Administration.

[FR Doc. E7-10908 Filed 6-5-07; 8:45 am]

BILLING CODE 3510-DS-P